DEPARTMENT OF COMMERCE

National Institute of Standards and Technology

Announcing a Meeting of the National Conference on Weights and Measures

AGENCY: National Institute of Standards and Technology, Commerce.

ACTION: Notice of meeting.

SUMMARY: Notice is hereby given that the 87th Interim Meeting of the National Conference on Weights and Measures will be held January 27 through January 30, 2002, at the Hyatt Regency Bethesda, Bethesda, MD. The meeting is open to the public. The National Conference on Weights and measures is an organization of weights and measures enforcement officials of the States, counties, and cities of the United States and private sector representatives. The Interim Meeting of the Conference as well as the Annual Meeting to be held next July (a notice will be published in the Federal Register prior to such meeting), brings together enforcement officials, other government officials, and representatives of business, industry, trade associations, and consumer organizations to discuss subjects that relate to the field of weights and measures technology and administration. Pursuant to (15 U.S.C. 272B), the National Institute of Standards and Technology supports the National Conference on Weights and Measures in order to promote uniformity among the States in the complex laws, regulations, test methods, and testing equipment that comprise regulatory control by the States of commercial transactions involving weighing and measurement.

DATES: The meeting will be held January 27-January 30, 2002.

LOCATION OF MEETING: Hyatt Regency Bethesda, Bethesda, MD.

FOR FURTHER INFORMATION CONTACT: Henry V. Oppermann, Director of NIST Office of Weights and Measures, 100 Bureau Drive, Stop 2600, Gaithersburg, MD 20899-2600. Telephone (301) 975-4004, or E-mail owm@nist.gov.

Dated: December 4, 2001.
Karen H. Brown,
Acting Director.

[FR Doc. 01-30628 Filed 12-11-01; 8:45 am]

BILLING CODE 3510-13-M